DEPARTMENT OF TRANSPORTATION

Federal Aviation Administration

14 CFR Part 60

[Docket No. FAA-2002-12461; Amendment No. 60-3]

RIN 2120-AJ12

Flight Simulation Training Device Initial and Continuing Qualification and Use

AGENCY: Federal Aviation Administration (FAA), DOT.

ACTION: Notice of issuance and availability of final rule.

SUMMARY: This document announces the availability of the final rule entitled Flight Simulation Training Device Initial and Continuing Qualification and Use, which went on public inspection at the Office of the Federal Register April 30, 2008, and will be published in the Federal Register on May 9, 2008.

FOR FURTHER INFORMATION CONTACT: For technical questions concerning this document or the final rule, contact Edward Cook, Air Transportation Division (AFS-200), Flight Standards Service, Federal Aviation Administration, 100 Hartsfield Centre Parkway, Suite 400, Atlanta, GA 30354; telephone: 404-832-4700; e-mail: Edward.D.Cook@faa.gov. For legal questions concerning this document or the final rule, contact Anne Bechdolt, Office of Chief Counsel (AGC-200), Federal Aviation Administration, 800 Independence Avenue, SW., Washington, DC 20591; telephone 202-267-7230; e-mail: Anne.Bechdolt@faa.gov.

SUPPLEMENTARY INFORMATION:

Discussion

On April 17, 2008, the FAA issued a final rule entitled Flight Simulation Training Device Initial and Continuing Qualification and Use. The effective date of the final rule is May 30, 2008. The final rule amends the Qualification Performance Standards (QPS) appendices for flight simulation training devices (FSTD) to provide greater harmonization with international standards for simulation. In addition, the rule adds a new level of simulation for helicopter flight training devices (FTD) and establishes FSTD Directive 1, which requires all existing FSTD airport models that are beyond the number of airport models required for qualification to meet specified requirements. The intended effect of the rule is to ensure that the flight training and testing environment is accurate and realistic. Except for the requirements of FSTD Directive 1, the technical requirements contained in the final rule do not apply to simulators qualified before May 30, 2008. The final rule results in minimal to no cost increases for manufacturers and sponsors.

The final rule will go on public display at the Office of the Federal Register on April 30, 2008, and will be published in the Federal Register on May 9, 2008. Beginning April 30, 2008, the full text of the final rule is available for review at http://www.faa.gov, under the Recently Published Rulemaking Documents section, http://www.faa.gov/regulations_policies/rulemaking/recently_published/.

The FAA has determined that the effective date of the final rule amending the QPS appendices should be May 30, 2008. Part 60 has been available to the public for review for over 1 year. The revisions to the QPS appendices of Part 60 reflect international standards that have been in existence for more than 4 years. Further, when the FAA delayed the effective date to Part 60, we also delayed the compliance dates of certain sections of the rule to provide adequate time for transition. Because of the notice provided and delayed compliance dates of certain sections, the FAA has determined that delaying the effective date of the final rule amending the QPS appendices is not required.

Issued in Washington, DC on April 23, 2008.
Pamela Hamilton-Powell,
Director, Office of Rulemaking.

[FR Doc. E8-9209 Filed 4-29-08; 8:45 am]

BILLING CODE 4910-13-P